ELECTION ASSISTANCE COMMISSION

Technical Guidelines Development Committee (TGDC) Notice of Vacancy

AGENCY: U.S. Election Assistance Commission.

ACTION: Notice of vacancy.

SUMMARY: Pursuant to the Help America Vote Act (HAVA) and the Charter of the EAC Technical Guidelines Development Committee (TGDC), the EAC is posting this notice of vacancy for a Board of Advisors representative to the TGDC. The vacancy shall be filled jointly by the EAC and the Director of the National Institute of Standards and Technology (NIST).

ADDRESSES: Pursuant to the TGDC Charter, the EAC will post the notice on the EAC website: https://www.eac.gov. Interested Board of Advisors members should contact the Alternate Designated Federal Official by email, sbrady@eac.gov.

SUPPLEMENTARY INFORMATION:

TGDC Appointment Process

The Technical Guidelines Development Committee (TGDC) is a non-discretionary Federal Advisory Committee established by the Help America Vote Act of 2002 (HAVA), Public Law 107-252, 116 Stat. 1666 (2002). The TGDC assists the EAC in developing the Voluntary Voting System Guidelines (VVSG). The chairperson of the TGDC is the director of the National Institute of Standards and Technology (NIST). The TGDC is composed of 14 other members appointed jointly by EAC and the director of NIST.

HAVA mandates that the 14 other members appointed jointly by the EAC and NIST must include an equal number of members of the EAC Standards Board, members of the EAC Board of Advisors, and members of the Architectural and Transportation Barrier Compliance Board. The TGDC Charter requires that notice of vacancies on the Committee for those individuals jointly appointed by EAC and NIST be published in the Federal Register as well as on the Commission's website. Pursuant to HAVA and the TGDC charter, the EAC is publishing this notice of vacancy on the TGDC for a representative of the EAC Board of Advisors. This vacancy shall be filled through a joint appointment of a current member of the EAC Board of Advisors by the EAC and NIST.

Camden Kelliher,
Deputy General Counsel, U.S. Election Assistance Commission.

[FR Doc. 2023-22749 Filed 10-13-23; 8:45 am]

BILLING CODE P